DEPARTMENT OF COMMERCE

International Trade Administration

A-570-879

Notice of Extension of Time Limit for the Final Results of the Antidumping Administrative Review of Polyvinyl Alcohol from the People's Republic of China

AGENCY: Import Administration, International Trade Administration, Department of Commerce.

EFFECTIVE DATE: April 27, 2006.

FOR FURTHER INFORMATION CONTACT: Lilit Astvatsatrian, AD/CVD Operations, Office 8, Import Administration, International Trade Administration, U.S. Department of Commerce, 14th Street and Constitution Avenue, NW, Washington, DC 20230; telephone: (202) 482-6412.

SUPPLEMENTARY INFORMATION:

Background

On November 7, 2005, the Department of Commerce (“the Department”) published the preliminary results of the administrative review of the antidumping duty order on polyvinyl alcohol (“PVA”) from the People's Republic of China (“PRC”), covering the period August 11, 2003, through September 30, 2004. See Polyvinyl Alcohol from the People's Republic of China: Preliminary Results of Antidumping Duty Administrative Review, 70 FR 67434 (November 7, 2005) (“Preliminary Results”). In the Preliminary Results, we stated that we would make our final determination for the antidumping duty review no later than 120 days after the date of publication of the preliminary results (i.e., March 7, 2006).

Extension of Time Limit of Final Results

Section 751(a)(3)(A) of the Tariff Act of 1930, as amended (“the Act”), requires the Department to issue the final results in an administrative review within 120 days of the publication date of the preliminary results. However, if it is not practicable to complete the review within this time period, the Department may extend the time limit for the final results to 180 days. On February 27, 2006, the Department published in the Federal Register a notice extending the time limit for the final results of the administrative review from March 7, 2006, to April 6, 2006. See Notice of Extension of Time Limit for the Antidumping Duty Administrative Review of Polyvinyl Alcohol from the People's Republic of China, 71 FR 9781 (February 27, 2006). On March 29, 2006, the Department published in the Federal Register a notice extending the time limit for the final results of the administrative review from April 6, 2006, to April 21, 2006. See Notice of Extension of Time Limit for the Final Results of the Antidumping Administrative Review of Polyvinyl Alcohol from the People's Republic of China, 71 FR 15697 (March 29, 2006). The final results of review are currently due no later than April 21, 2006. However, completion of the final results by April 21, 2006, is not practicable because this review involves certain complex issues, including examination of the co-product allocation methodology, application of by-product credits, and the valuation of natural gas and certain other factors.

Therefore, in accordance with section 751(a)(3)(A) of the Act, the Department is now fully extending the time period for issuing these final results of review until May 6, 2006. However, because May 6, 2006, falls on a Saturday, the final results will be due on May 8, 2006, the next business day.

Dated: April 21, 2006.
Stephen J. Claeys,
Deputy Assistant Secretary for Import Administration.

[FR Doc. E6-6365 Filed 4-26-06; 8:45 am]

BILLING CODE 3510-DS-S